DEPARTMENT OF HEALTH AND HUMAN SERVICES

Office of the National Coordinator for Health Information Technology; American Health Information Community Chronic Care Workgroup Meeting

ACTION: Announcement of meeting.

SUMMARY: This notice announces the 19th meeting of the American Health Information Community Chronic Care Workgroup in accordance with the Federal Advisory Committee Act (Pub. L. 92-463, 5 U.S.C., App.).

DATES: November 1, 2007 from 1 p.m. to 4 p.m. Eastern Time.

ADDRESS: Mary C. Switzer Building (330 C Street, SW., Washington, DC 20201), Conference Room 4090. Please bring photo ID for entry to a Federal building.

FOR FURTHER INFORMATION CONTACT: http://www.hhs.gov/healthit/ahic/chroniccare/.

SUPPLEMENTARY INFORMATION: The Workgroup will continue its discussion on ways to deploy widely available, secure technologies solutions for remote monitoring and assessment of patients and for communication between clinicians about patients.

The meeting will be available via Web cast. For additional information, go to: http://www.hhs.gov/healthit/ahic/chroniccare/cc_instruct.html.

Dated: October 1, 2007.
Judith Sparrow,
Director, American Health Information Community, Office of Programs and Coordination, Office of the National Coordinator for Health Information Technology.

[FR Doc. 07-5012 Filed 10-10-07; 8:45 am]

BILLING CODE 4150-24-M